ENVIRONMENTAL PROTECTION AGENCY

[ER-FRL-6697-5]

Environmental Impacts Statements; Notice of Availability

Responsible Agency: Office of Federal Activities, General Information (202) 564-7167 or http://www.epa.gov/compliance/nepa/.

Weekly Receipt of Environmental Impact Statements

Filed 03/24/2008 Through 03/28/2008

Pursuant to 40 CFR 1506.9.

EIS No. 20080117, Draft EIS, AFS, 00, Selway-Bitterroot Wilderness Plants Management Project, To Prevent the Establishment of New Invaders and Reduce the Impacts of Established Invasive Plants on Native Plant Community Stability, Sustainability and Diversity, Nez Perce, Clearwater, Lolo, and Bitterroot National Forests, ID and MT, Comment Period Ends: 05/19/2008, Contact: Chad Benson 208-942-3113.

EIS No. 20080118, Final EIS, FAA, CA, Horizon Air Service to Mammoth Yosemite Airport Project, Proposed Operations Specifications Amendment To Provide Scheduled Air Service, Town of Mammoth Lakes, Mono County, CA, Wait Period Ends: 05/05/2008, Contact: Chuck Cox 425-227-2243.

EIS No. 20080119, Draft EIS, USN, CA, Southern California Range Complex, To Organize, Train, Equip, and Maintain Combat-Ready Naval Forces, San Diego, Orange and Los Angeles Counties, CA, Comment Period Ends: 05/19/2008, Contact: Alexander Stone 619-545-8128.

EIS No. 20080120, Draft EIS, USN, FL, Naval Surface Warfare Center Panama City Division (NSWC PCD), Capabilities To Conduct New and Increased Mission Operations for the Department of Navy (DON) and Customers within the three Military Operating Area and St. Andrew Bay (SAT), Gulf of Mexico, FL, Comment Period Ends: 05/19/2008, Contact: Carmen Ferrer 850-234-4146.

EIS No. 20080121, Final EIS, FHW, 00, Interstate I-94, I-43, I-894, and WI-119 (Airport Spur) I-94/USH 41 Interchange to Howard Avenue, To Address Freeway System's Deteriorated Conditions, Funding and U.S. Army COE Section 404 Permit, Kenosha, Racine and Milwaukee Counties, WI and Lake County, IL, Wait Period Ends: 05/05/2008, Contact: David Scott 608-829-7522 .

EIS No. 20080122, Draft EIS, UAF, NV, Nellie Air Force Base (AFB), Proposes to Base 36 F-35 Fighter Aircraft, Assigned to the Force Development Evaluation (FDE) Program and Weapons School (WS) Beddown, Clark County, NV, Comment Period Ends: 05/19/2008, Contact: Sheryl Parker 703-604-5264.

EIS No. 20080123, Final EIS, NPS, MN, Pipestone National Monument General Management Plan, Implementation, Pipestone County, MN, Wait Period Ends: 05/05/2008, Contact: Nick Chevance 507-825-5464.

EIS No. 20080124, Final EIS, USN, MD, National Naval Medical Center, Activities To Implement 2005 Base Realignment and Closure Actions, Construction and Operation of New Facilities for Walter Reed National Military Medical Center, Bethesda, MD, Wait Period Ends: 05/05/2008, Contact: Andrew Gutberlet 301-295-2404.

Amended Notices

EIS No. 20070512, Draft EIS, FHW, TX, Tier 1 DEIS—I-69/Trans-Texas Corridor Study, Improvement to International, Interstate and Instrastate Movement of Good and People, Louisiana-Mexico/Northeast Texas to Mexico, Comment Period Ends: 04/18/2008, Contact: Donald Davis 512-536-5900. Revision to FR Notice Published 12/14/2007: Extending Comment Period from 3/19/2008 to 4/18/2008.

EIS No. 20080083, Draft Supplement, AFS, WV, Lower Williams Project Area (LWPA), Additional Information, Proposed To Perform Vegetation Management and Wildlife Habitat Improvements, Implementation, Gauley Ranger District, Monongahela National Forest, Webster County, WV, Comment Period Ends: 05/06/2008, Contact: O'Dell Tucker 304-799-4334 Ext 19. Revision to FR Notice Published on 03/14/2008: Extending Comment Period 04/28/2008 to 05/06/2008.

EIS No. 20080103, Draft EIS, USN, FL, Mayport Naval Station Project, Proposed Homeporting of Additional Surface Ships, Several Permits, Mayport, FL, Comment Period Ends: 05/12/2008, Contact: William Sloger 874-820-5797. Revision to FR Published 03/28/2008: Correction to Contact Person Name and Telephone Number.

Dated: 04/01/2008.
Ken Mittelholtz,
Environmental Protection Specialist, Office of Federal Activities.

[FR Doc. E8-7036 Filed 4-3-08; 8:45 am]

BILLING CODE 6560-50-P